DEPARTMENT OF COMMERCE

National Oceanic and Atmospheric Administration

Public Meeting for the Louisiana Regional Restoration Planning Program/Draft Programmatic Environmental Impact Statement

AGENCY: National Oceanic and Atmospheric Administration (NOAA), Commerce.

ACTION: Notice of public meetings for the Louisiana Regional Restoration Planning Program/Draft Programmatic Environmental Impact Statement (DPEIS)

SUMMARY: Pursuant to 15 CFR 990.23 & 990.56, notice is hereby given that two public meetings will be held to provide an opportunity for public comment and input on the “Louisiana Regional Restoration Planning Program/Draft Programmatic Environmental Impact Statement, May 2003.” Notice of the availability of this DPEIS was published in the Federal Register on May 9, 2003 and the comment period ends on July 9, 2003. This document was prepared by the state and Federal natural resource trustee agencies (National Oceanic and Atmospheric Administration (NOAA), Commerce; United States Department of the Interior; Louisiana Oil Spill Coordinator's Office; Louisiana Department of Environmental Quality; Louisiana Department of Natural Resources; and Louisiana Department of Wildlife and Fisheries) to address natural resource damages in the State of Louisiana caused by discharges of oil, which are actionable under the Oil Pollution Act of 1990 (OPA), 33 U.S.C. 2701 et seq. Pursuant to OPA, the above natural resource trustee agencies may claim damages from responsible parties to restore, rehabilitate, replace or acquire the equivalent of natural resources and services injured by oil spill incidents. The purpose of the Louisiana Regional Restoration Planning Program is to develop an institutional framework and procedures that will enable the trustees to select and implement projects that restore for losses of natural resources and services from unauthorized discharges of oil in a consistent and predictable manner. As part of the implementation of the Louisiana Regional Restoration Planning Program, nine Regional Restoration Plans will be developed. Each Regional Restoration Plan will identify existing, planned, or proposed projects that may provide appropriate restoration alternatives for natural resources injured by oil spill incidents and thereby enhance resolution of claims for natural resource damages caused by oil spill incidents in a more expeditious and cost-effective manner.

Dates/Location: Two public meetings to receive public comments on the “Louisiana Regional Restoration Planning Program/Draft Programmatic Environmental Impact Statement, May 2003” will be held on Monday, June 23, 2003. The daytime meeting is scheduled at 2 PM and the evening meeting is scheduled at 6:30 PM.

Both meetings will be held at the following location: Conservation and Mineral Board Resources Hearing Room, 1st floor—LaBelle Room, Department of Natural Resources, LaSalle Office Building, 617 N. 3rd Street, Baton Rouge, LA 70802.

ADDRESSES: Requests for copies of the “Louisiana Regional Restoration Planning Program/Draft Programmatic Environmental Impact Statement, May 2003” should be sent to William Conner, Chief , NOAA/Damage Assessment Center, 1305 East-West Highway, SSMC #4, 10th floor, Silver Spring, MD, 20910, at (301) 713-3038 ext. 190 or William.Conner@noaa.gov. Written comments on the program should be sent to NOAA to the person listed above or faxed to: (301) 713-4387. A copy of comments should also be sent to: NEPA Coordinator, NOAA/SP, Room 6121, 14th and Constitution, NW., Washington DC 20230.

FOR FURTHER INFORMATION CONTACT: For further information, contact William Conner at (301) 713-3038 ext. 190, or at William.Conner@noaa.gov.

SUPPLEMENTARY INFORMATION: Traditionally, Louisiana's economy has been based on the state's vast natural resources. Both renewable (hunting, fishing, forest products) and nonrenewable (cultural, oil, natural gas) resources are important, and the industries associated with each have coexisted for years. Although Louisiana's oil and gas industry tries to avoid adverse impacts on renewable natural resources, injuries do occur as a result of oil spill incidents. The cumulative impact of these incidents on fish, wildlife and the environment can be significant and adversely affect the industries and communities depending on natural resources for commerce and recreation.

Federal and state natural resource trustees are developing the first statewide comprehensive Regional Restoration Planning Program to assist the natural resource trustees in carrying out their responsibilities to restore the natural resources that have been injured by oil spill incidents. The goal of this planning effort is to establish a statewide program that will: expedite and reduce the cost of the Natural Resource Damage Assessment (NRDA) process; increase predictability by describing in detail the NRDA process; and increase restoration of lost natural resources and services by expediting resolution of claims.

The state and federal trustees have identified: the Louisiana Regional Restoration Planning Program structure; the decision-making process; the criteria that will be used to select the restoration project(s) that restore the natural resources injured by an incident; and several innovative settlement approaches that can expedite the NRDA process. The state is divided into nine regions. For each region, a regional plan will be developed that identifies: resources which could potentially be injured by incidents; appropriate restoration types to restore those resources; and available restoration projects for each of the restoration types.

The Louisiana Regional Restoration Planning Program will benefit the public, industry, and natural resource trustees by:

• Providing greater opportunities to restore injuries to trust resources caused by oil spill incidents;

• Potentially reducing the cost and time required for restoration planning and implementation;

• Pooling individual case recoveries to provide for implementation of larger, more ecologically significant restoration projects;

• Providing for more consistency and predictability through detailing the NRDA process, thereby reducing uncertainty to the public and industry;

• Improving coordination between restoration activities under the NRDA mandates and other restoration efforts in the State;

• Enhancing trustee capability to restore resources/services injured by oil incidents for which there is no viable RP;

• Maximizing opportunities for partnering among RPs, trustees, and other public and private restoration efforts; and

• Increasing opportunity for public participation in the NRDA process through pre-incident planning.

The National Oceanic and Atmospheric Administration (NOAA), Commerce; United States Department of the Interior (DOI); Louisiana Oil Spill Coordinator's Office (LOSCO); Louisiana Department of Environmental Quality (LDEQ); Louisiana Department of Natural Resources (LDNR); and Louisiana Department of Wildlife and Fisheries (LDWF) are natural resource trustees designated pursuant to 33 U.S.C. 2706(c), Executive Order 12777, and the National Contingency Plan, 40 CFR 300.600 and 300.605. Pursuant to La. Rev. Stat. 30:2460, the State of Louisiana Oil Spill Contingency Plan (September 1995) describes the state trust resources to include the following: Vegetated wetlands, surface waters, ground waters, air, soil, wildlife, aquatic life, and the appropriate habitats on which they depend. DOI has been designated as trustee for the natural resources that it manages or controls. Examples of those resources are described in the National Contingency Plan, 40 CFR 300.600(b)(2) and (3), include the following and their supporting ecosystems: Migratory birds, anadromous fish, endangered species and marine mammals, federally owned minerals, certain federally managed water resources, and natural resources located on, over, or under land administered by DOI. NOAA's trust resources include, but are not limited to: Commercial and recreational fish species, anadromous and catadromous fish species, marshes and other coastal habitats, marine mammals, and endangered and threatened marine species.

Pursuant to 15 CFR 990.56, the natural resource trustees are authorized to develop regional restoration plans as part of OPA's mandate for the trustees to restore, rehabilitate, replace, or acquire the equivalent of natural resources and services injured by oil spill incidents and to compensate for interim losses of such resources and services.

In compliance with 15 CFR 990.45, the trustees have opened an Administrative Record (Record). The Record is maintained in the NOAA Damage Assessment Center, SSMC #4, 1305 East-West Highway, Silver Spring, Maryland, 20910-3281, and duplicate copies of the Record will be maintained in Baton Rouge at the Louisiana Oil Spill Coordinator's Office, Suite 405, 150 Third Street, Baton Rouge, LA, 70801.

The Record includes documents that the trustees relied upon during the development of the Louisiana Regional Restoration Planning Program and the DPEIS. Pursuant to 15 CFR 990.23 & 990.56, the trustees sought public involvement in developing the Louisiana Regional Restoration Planning Program and Regional Restoration Plans through public review and comment of the documents contained in the Record as well as through publication of a “Public Review Document of the Louisiana Regional Restoration Planning Program”. Further opportunity for public review will become available when the Louisiana Regional Restoration Planning Program/Final Environmental Impact Statement is prepared. The Record and the above documents are also available at the following Web site: http://www.darp.noaa.gov/.

Dated: June 3, 2003.
Jamison S. Hawkins,
Deputy Assistant Administrator for Ocean Services and Coastal Zone Management.

[FR Doc. 03-14400 Filed 6-6-03; 8:45 am]

BILLING CODE 3510-JE-P